DEPARTMENT OF VETERANS AFFAIRS

38 CFR Chapter I

RIN 2900-AK46

Veterans Benefits Administration Nomenclature Changes

AGENCY: Department of Veterans Affairs.

ACTION: Final rule.

SUMMARY: This document makes nomenclature changes in VA regulations in 38 CFR Chapter I to reflect current Veterans Benefits Administration titles and office designations. References to the “Chief Benefits Director” are changed to “Under Secretary for Benefits.” Also, references to “Vocational Rehabilitation and Counseling” and its abbreviation “VR&C” are changed to “Vocational Rehabilitation and Employment” and “VR&E,” respectively. In addition, references to the “Vocational Rehabilitation and Education Service” are changed to “Vocational Rehabilitation and Employment Service” or “Education Service” as appropriate.

DATES: Effective date: August 22, 2001.

FOR FURTHER INFORMATION CONTACT: William G. Susling, Jr., Assistant Director for Policy and Program Development, Education Service, Veterans Benefits Administration, Department of Veterans Affairs, 202-273-7187.

SUPPLEMENTARY INFORMATION: This final rule merely reflects agency organization. Accordingly, we are dispensing with prior notice and comment and a delayed effective date under the provisions of 5 U.S.C. 553.

The Secretary of Veterans Affairs hereby certifies that this final rule will not have a significant economic impact on a substantial number of small entities as they are defined in the Regulatory Flexibility Act, 5 U.S.C. 601-602, since this final rule does not contain any substantive provisions. Therefore, pursuant to 5 U.S.C. 605(b), this final rule is exempt from the regulatory flexibility analyses requirements of sections 603 and 604.

Approved: July 11, 2001.
Anthony J. Principi,
Secretary of Veterans Affairs.

For the reasons set out in the preamble, under 38 U.S.C. 501 and ch. 31, 38 CFR chapter I is amended as set forth below.

CHAPTER I—DEPARTMENT OF VETERANS AFFAIRS

1. In chapter I, revise all references to “Chief Benefits Director” to read “Under Secretary for Benefits”.

2. In chapter I, revise all references to “Vocational Rehabilitation and Counseling” to read “Vocational Rehabilitation and Employment”.

3. In chapter I, revise all references to “VR&C” to read “VR&E”.

§§ 21.4005, 21.4138, 21.4203, 21.4208, 21.4255, and 21.7301 [Amended]

4-5. In §§ 21.4005, 21.4138, 21.4203, 21.4208, 21.4255, and 21.7301, revise all references to “Vocational Rehabilitation and Education Service” to read “Education Service”.

§§ 21.3303, 21.4232, and 21.6410 [Amended]

6. In §§ 21.3303, 21.4232, and 21.6410, revise all references to “Vocational Rehabilitation and Education Service” to read “Vocational Rehabilitation and Employment Service”.

[FR Doc. 01-21136 Filed 8-21-01; 8:45 am]

BILLING CODE 8320-01-P